DEPARTMENT OF HEALTH AND HUMAN SERVICES

National Institutes of Health

Submission for OMB review; 30-Day Comment Request; Data and Specimen Hub (DASH) (Eunice Kennedy Shriver National Institute of Child Health and Human Development); Correction

AGENCY: National Institutes of Health, HHS.

ACTION: Notice; correction.

SUMMARY: The Department of Health and Human Services, National Institutes of Health published a Notice in the Federal Register on April 9, 2021. That Notice requires a correction in the SUPPLEMENTARY INFORMATION section.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Regina Bures, Ph.D., Eunice Kennedy Shriver National Institute of Child Health and Human Development (NICHD), National Institutes of Health, 6710B Rockledge Drive, Room 2160, Bethesda, MD 20817, or call non-toll-free number (301) 496-9485 or Email your request, including your address to: NICHD.DASH@mail.nih.gov.

SUPPLEMENTARY INFORMATION:

Correction:

In the Federal Register of April 9, 2021, in FR Doc. 2021-07313, on page 18549, as found within the Supplementary Information section, within the Estimated Annualized Burden Hours table for the Frequency of Response per Respondent column total currently reads “200” and is corrected to read: “480”.

Dated: April 12, 2021.
Jennifer M. Guimond,
Project Clearance Liaison, Eunice Kennedy Shriver National Institute of Child Health and Human Development, National Institutes of Health.

[FR Doc. 2021-07754 Filed 4-15-21; 8:45 am]

BILLING CODE 4140-01-P